DEPARTMENT OF LABOR

Office of Workers' Compensation Programs

Agency Information Collection Activities; Announcement of the Office of Management and Budget (OMB) Control Numbers in Accordance with the Paperwork Reduction Act

AGENCY: Office of Workers' Compensation Programs (OWCP), Labor.

ACTION: Notice; Announcement of NEW OMB Control Numbers for OWCP.

SUMMARY: Pursuant to the Department's reorganization plan effective November 8, 2009, the Department of Labor's (DOL's) former Employment Standards Administration (ESA) (OMB Account Number 1215) was dissolved and its functions were assigned among its four former sub-agencies, of which OWCP was one, by Secretary's Order 9-2009 (74 FR 58836). Thereafter, OMB assigned new Control Numbers for OWCP's collections of information formerly inventoried under the dissolved ESA account.

DATES: This notice is effective upon publication in the Federal Register.

FOR FURTHER INFORMATION CONTACT: Vincent Alvarez, Agency Clearance Officer, Office of Workers' Compensation, U.S. Department of Labor, Room S-3524, 200 Constitution Avenue, NW., Washington, DC 20210, telephone: (202) 693-0372 (this is not a toll-free number) or e-mail: OWCP-PUBLIC@dol.gov.

SUPPLEMENTARY INFORMATION: In accordance with the Paperwork Reduction Act of 1995 (44 U.S.C. 3501-3520), OMB has assigned new Control Numbers to the collections of information formerly inventoried under the OMB account 1215. The new OMB Control Numbers and current OMB-assigned expiration dates are listed below, along with any applicable regulatory citations and/or Agency form numbers.

Previous OMB control No. | New OMB control No. | CFR citation | Agency form No. | Current expiration date
1215-0022 | 1240-0043 | 20 CFR 702.234 | LS-206 | 10/31/2011
1215-0023 | 1240-0042 | 20 CFR 702.251 | LS-207 | 12/31/2011
1215-0024 | 1240-0041 | 20 CFR 702.236, 702.235 | LS-208 | 01/31/2012
1215-0027 | 1240-0040 | 20 CFR 702.121 | LS-265 | 02/28/2011
1215-0031 | 1240-0003 | 20 CFR 702.201, 702.202, 702.407 | LS-202, LS-210 | 12/31/2010
1215-0034 | 1240-0039 | 20 CFR 726.110 | OWCP-1 | 10/31/2011
1215-0052 | 1240-0038 | 20 CFR 725.304a, 725.404a | CM-911, CM-911A | 09/30/2011
1215-0054 | 1240-0037 | 20 CFR 10.315, 30.404, 725.406 and 725.701 | OWCP-957 | 08/31/2010
1215-0055 | 1240-0044 | 20 CFR 10.801, 30.701, 725.701, 725.704, 725.405 | OWCP-1500 | 11/30/2012
1215-0056 | 1240-0035 | 20 CFR 718.204 | CM-913 | 02/28/2011
1215-0057 | 1240-0034 | 20 CFR 725.405, 725.406, 725.407, 725.408 | CM-936 | 11/30/2012
1215-0058 | 1240-0033 | 20 CFR 725.408, 725.412 | CM-2970, CM2970A | 12/31/2010
1215-0059 | 1240-0048 | 20 CFR 726.206, 726.208, 726.213 | CM-921 (Extension request pending in OCIO) | 04/30/2010
1215-0060 | 1240-0032 | 20 CFR 725.535 | CM-905 | 09/30/2010
1215-0061 | 1240-0031 | 20 CFR 725.208 | CM-981 | 05/31/2010
1215-0064 | 1240-0030 | 20 CFR 725.621 | CM-908 | 06/30/2012
1215-0066 | 1240-0029 | 20 CFR 702.419 | LS-1 | 05/31/2011
1215-0067 | 1240-0045 | 20 CFR 10.518, 10.519, 702.506, 702.507 | OWCP-16 | 05/31/2011
1215-0069 | 1240-0027 | 20 CFR 410.221, CFR 725.304 | CM-912 | 08/31/2010
1215-0073 | 1240-0026 | 20 CFR 702.121 | LS-266 | 01/31/2011
1215-0078 | 1240-0049 | 20 CFR 10.700, 10.702, 702.132 | CA-143 | 12/31/2012
1215-0084 | 1240-0028 | 20 CFR 725.513 | CM-929, CM-929P | 06/30/2011
1215-0085 | 1240-0036 | 20 CFR 702.317 | LS-18 | 03/31/2011
1215-0090 | 1240-0023 | 20 CFR 718.102, 718.103, 718.104, 718.105 | CM-933, CM-988, CM-2907, CM-1159, CM-933B | 08/31/2011
1215-0103 | 1240-0046 | 20 CFR 10.102, 10.211, 10.300, 10.314, 10.331, 10.404, 10.506 | CA-17, CA-16, CA-20, OWCP-5c, OWCP-5b, OWCP-5A, CA-1332, CA-1331, CA-7 | 09/30/2011
1215-0105 | 1240-0047 | 20 CFR 10.525 | CA-1027 | 12/31/2012
1215-0112 | 1240-0025 | 33 USC 910 | LS-426 | 06/30/2012
1215-0113 | 1240-0024 | 20 CFR 725.701, 725.706, 725.707 | CM-893 | 10/31/2011
1215-0116 | 1240-0022 | 20 CFR 10.735 | CA-721, CA-722 | 08/31/2010
1215-0137 | 1240-0021 | 20 CFR 10.801, 30.701, 725.704, 725.705 | OWCP-1168 | 11/30/2012
1215-0144 | 1240-0051 | 20 CFR 10.430-10.441, 725.544(c), 30.510-520 | OWCP-20 | 11/30/2012
1215-0151 | 1240-0016 | 20 CFR 10.528 | CA-1032 | 02/28/2011
1215-0154 | 1240-0015 | 20 CFR 10.126 | CA-12 | 05/31/2011
1215-0155 | 1240-0013 | 20 CFR 10.7, 10.105, 10.410, 10.413, 10.417, 10.535, 10.537 | CA-5, CA-5B, CA-1031, CA-1074 | 05/31/2010
1215-0160 | 1240-0014 | 20 CFR 702.111, 702.162, 702.174, 702.175, 702.201, 702.202, 702.221, 702.321, 702.242, 702.285, 703.310 | LS-204, LS-267, LS-262, LS-271, LS-274, LS-203, LS-513, LS-200, LS-201 | 06/30/2012
1215-0161 | 1240-0012 | 5 USC § 8111(b) (FECA) and 33 USC § 908(g) (LHWCA) | OWCP-17 | 06/30/2012
1215-0166 | 1240-0010 | 20 CFR 725.505-513 | CM-910 | 03/31/2012
1215-0167 | 1240-0009 | 20 CFR 10.104 | CA-2a | 05/31/2011
1215-0171 | 1240-0011 | 20 CFR 725.365, 725.366 | CM-972 | 12/31/2010
1215-0173 | 1240-0020 | 20 CFR 725.510, 725.511, 725.512, 725.513 | CM-623, CM623S, CM-787 | 09/30/2011
1215-0176 | 1240-0019 | 20 CFR 10.801, 30.701, 725.405, 725.406, 725.701, 725.704 | OWCP-04 | 11/30/2012
1215-0178 | 1240-0018 | 5 U.S.C. 8104 | CA-2231 | 06/30/2010
1215-0182 | 1240-0008 | 5 USC §§ 8104(a) and 8111(b) (FECA) and 33 USC §§ 908(g) and 939(c) | OWCP-44 | 07/31/2011
1215-0193 | 1240-0007 | 20 CFR 10.802, 30.702, 725.701, 725.705 | OWCP-915 | 12/31/2012
1215-0194 | 1240-0050 | 20 CFR 10.801, 30.701, 725.701, 725.705 | Instruction only (Pharmacy Billing Request ) | 12/31/2012
1215-0197 | 1240-0002 | 20 CFR 30.100, 30.101, 30.102, 30.103, 30.111, 30.113, 30.114, 30.206, 30.207, 30.212, 30.213, 30.214, 30.221, 30.222, 30.231, 30.415, 30.416, 30.417, 30.505, 30.620, 30.806 | EE-1, EE-2, EE-3, EE-4, EE-7, EE-8, EE-9, EE-10, EE-20 | 08/31/2010
1215-0200 | 1240-0001 | 20 CFR 10.707, 10.710 | CA-1108, CA-1122 | 06/30/2012
1215-0202 | 1240-0006 | 20 CFR 61.101, 61.104 | CA-278 | 08/31/2010
1215-0204 | 1240-0005 | 20 CFR 703.203, 703.204, 703.205, 703.209, 702.210, 703.212, 703.303, 703.304 | LS-275-IC, LS-275-SI, LS-276 | 09/30/2010
1215-0206 | 1240-0017 | 20 CFR 10.900 | CA-40, CA-41, CA-42 | 06/31/2010
1215-0207 | 1240-0004 | 20 CFR 703.116 | LS-570 | 12/31/2012

The Department notes that notwithstanding any other provision of law, individuals are not required to respond to a collection of information or revision thereof unless approved by OMB under the PRA and it displays a currently valid OMB Control Number. 35 U.S.C. 3506(c)(1)(B)(iii)(V) and 5 CFR 1320.5(b).

Authority and Signature

The authority for this notice is the Paperwork Reduction Act of 1995 (44 U.S.C. 3506 et seq.) and Secretary of Labor's Order No. 9-2009 (74 FR 58836).

Signed at Washington, DC, this 29th day of April, 2010.
Vincent Alvarez,
Agency Clearance Officer, Office of Workers' Compensation Programs, US Department of Labor.

[FR Doc. 2010-10493 Filed 5-4-10; 8:45 am]

BILLING CODE 4510-CR-P